DEPARTMENT OF THE INTERIOR

Office of the Secretary

[XXXD5198NI DS61100000 DNINR0000.000000 DX61104]

Exxon Valdez Oil Spill Public Advisory Committee

AGENCY: Office of the Secretary, Interior.

ACTION: Meeting Notice.

SUMMARY: The Department of the Interior, Office of the Secretary is announcing a public meeting of the Exxon Valdez Oil Spill (EVOS) Trustee Council's Public Advisory Committee.

DATES: February 25, 2020, at 8:30 a.m. AKST.

ADDRESSES: Glenn Olds Hall Conference Room, 4210 University Drive, Anchorage, Alaska; (800) 315-6338, code 72241.

FOR FURTHER INFORMATION CONTACT: Dr. Philip Johnson, Department of the Interior, Office of Environmental Policy and Compliance, 1689 “C” Street, Suite 119, Anchorage, Alaska, (907) 271-5011.

SUPPLEMENTARY INFORMATION: The EVOS Public Advisory Committee was created pursuant to Paragraph V.A.4 of the Memorandum of Agreement and Consent Decree entered into by the United States of America and the State of Alaska on August 27, 1991, and approved by the United States District Court for the District of Alaska in settlement of United States of America v. State of Alaska, Civil Action No. A91-081 CV.

The EVOS Public Advisory Committee meeting agenda will include an orientation for new members, Federal Advisory Committee Act training, and an overview of the proposed draft Work Plan. An opportunity for public comments will be provided. The final agenda and materials for the meeting will be posted on the EVOS Trustee Council website at www.evostc.state.ak.us. All EVOS Public Advisory Committee meetings are open to the public.

Public Input

Submitting Written Information or Questions

Interested members of the public may submit relevant information or questions for the Committee to consider during the public meeting. Written statements must be received by February 14, 2020, so that the information may be made available to the Committee for their consideration prior to this meeting. Written statements must be supplied to Dr. Philip Johnson (see FOR FURTHER INFORMATION CONTACT above) in the following formats: One hard copy with original signature and/or one electronic copy via email (acceptable file formats are Adobe Acrobat PDF, MS Word, MS PowerPoint, or rich text file).

Public Disclosure of Comments

Before including your address, phone number, email address, or other personal identifying information in your comments, please be aware that your entire comment, including your personal identifying information, may be made publicly available at any time. While you can ask us in your comment to withhold your personal identifying information from public review, we cannot guarantee that we will be able to do so.

Philip Johnson,
Regional Environmental Officer, Office of Environmental Policy and Compliance.

[FR Doc. 2020-01804 Filed 1-31-20; 8:45 am]

BILLING CODE 4334-63-P